FEDERAL ELECTION COMMISSION

[Notice 2006-18]

Filing Dates for the Texas Special Election in the 23rd Congressional District

AGENCY: Federal Election Commission.

ACTION: Notice of filing dates for special election.

SUMMARY: Texas has scheduled a special runoff election on December 12, 2006, to fill the seat in the Twenty-third Congressional District. On November 7, 2006, a Special General Election was held, with no candidate achieving a majority vote. Under Texas law, a Special Runoff Election will now be held with the two top vote-getters participating.

Committees participating in the Texas Special Runoff Election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Texas Special Runoff Election shall file a 12-day Pre-Runoff Report on November 30, 2006; and a consolidated 30-day Post-Runoff and Year-End Report on January 11, 2007. (See chart below for the closing date for each report).

Unauthorized Committees (PACs and Party Committees)

Political committees that file on a quarterly basis in 2006 are subject to special election reporting if they make previously undisclosed contributions or expenditures in connection with the Texas Special Runoff Election by the close of books for the applicable report(s). (See chart below for the closing date for each report).

Committees filing monthly that support candidates in the Texas Special Runoff Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 60 days prior to a special general election. See 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the Texas Special Runoff runs from October 13, 2006, through December 12, 2006.

Calendar of Reporting Dates for Texas Special Election

Committees Involved in the Special Runoff (12/12/06) Must File
Report | Close of books¹ | Reg./Cert. & overnight mailing date | Filing date
Pre-Runoff | 11/22/06 | 11/27/06 | 11/30/06
Post-Runoff & Year-End ² | 01/01/07 | 01/11/07 | 01/11/07
¹ The period begins with the close of books of the last report filed by the committee. If the committee has filed no previous reports, the period begins with the date of the committee's first activity.
² Committees should file a consolidated Post-Runoff and Year-End Report by the filing date of the Post-Runoff Report

.

Dated: November 29, 2006.
Michael E. Toner,
Chairman, Federal Election Commission.

[FR Doc. E6-20587 Filed 12-5-06; 8:45 am]

BILLING CODE 6715-01-P